DEPARTMENT OF TRANSPORTATION

Federal Aviation Administration

14 CFR Part 23

[Docket No. CE153, Special Condition 23-123-SC]

Special Conditions; Meridian PA-46-500TP; Protection of Systems From High Intensity Radiated Fields (HIRF): Corrections

AGENCY: Federal Aviation Administration (FAA), DOT.

ACTION: Final special conditions; corrections.

SUMMARY: The FAA published a document in the Federal Register on September 13, 1999, concerning final special conditions on the Meridian PA-46-400TP airplane. There was an inadvertent error in the special condition number in the document and there was an incorrect reference in the model number of the airplane. This document contains a correction to the special condition number for the final special conditions and to the model number reference.

EFFECTIVE DATE: The effective date of these corrected special conditions is August 27, 1999.

FOR FURTHER INFORMATION CONTACT: Ervin Dvorak, Aerospace engineer, Standards Office (ACE-110), Small Airplane Directorate, Aircraft Certification Service, Federal Aviation Administration, 901 Locust, Room 301, Kansas City, Missouri 64106; telephone (816) 329-4123.

SUPPLEMENTARY INFORMATION:

Need for Correction

The FAA published a document on September 13, 1999 (64 FR 49365) that issued final special conditions. In the document heading, a special condition number appears that had already been issued for another set of special conditions with a different docket number. This document corrects that error. The document also reference and incorrect model number. PA 46-400TP, so this document also corrects that error.

Correction of Publication

Accordingly, the special condition number, which appears in the heading of Docket No. CD153, is revised from 23-096-SC to 23-123-SC. Also, wherever the reference to PA 46-400TP appears, the reference is revised to read PA 46-500TP.

Issued in Kansas City, Missouri on August 7, 2002.
Michael Gallagher,
Manager, Small Airplane Directorate, Aircraft Certification Service.

[FR Doc. 02-21177 Filed 8-19-02; 8:45 am]

BILLING CODE 4910-13-U